DEPARTMENT OF TRANSPORTATION

Federal Aviation Administration

[Summary Notice No. PE-2018-22]

Petition for Exemption; Summary of Petition Received; Rolls-Royce plc

AGENCY: Federal Aviation Administration (FAA), Department of Transportation (DOT).

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before May 11, 2018.

ADDRESSES: Send comments identified by docket number FAA-2018-0143 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Tara Fitzgerald, Federal Aviation Administration, Engine and Propeller Standards Branch, AIR-6A2. 1200 District Avenue, Burlington, Massachusetts 01803-5529; (781) 238-7130; facsimile: (781) 238-7199; email: Tara.Fitzgerald@faa.gov.

SUPPLEMENTARY INFORMATION: This notice is published pursuant to 14 CFR 11.85.

Issued in Burlington, Massachusetts, on April 24, 2018.
Robert J. Ganley,
Manager, Engine and Propeller Standards Branch, Aircraft Certification Service.

Petition for Exemption

Docket No.: FAA-2018-0143.

Petitioner: Rolls-Royce plc.

Section(s) of 14 CFR Affected: § 33.27(c)(2)(v) at amendment 33-10.

Description of Relief Sought: Rolls-Royce requests an exemption from 14 CFR 33.27(c)(2)(v) at amendment 33-10 for the Rolls-Royce Trent 1000-A, 1000-C, 1000-D, 1000-E, 1000-G, and 1000-H engine models. Rolls-Royce seeks to exclude a failure of the HP shaft system from consideration in determining 105 percent of the highest overspeed that would result from a complete loss of load on the HP turbine.

[FR Doc. 2018-09194 Filed 4-30-18; 8:45 am]

BILLING CODE 4910-13-P